DEPARTMENT OF TRANSPORTATION

Federal Aviation Administration

Notice to Manufacturers of Continuous Friction Measurement Equipment (CFME)

AGENCY: Federal Aviation Administration (FAA), US DOT.

ACTION: Notice of Information Request

SUMMARY: Projects funded under the Airport Improvement Program (AIP) must meet the requirements of 49 U.S.C. 50101, Buy American Preferences. The Federal Aviation Administration (FAA) is considering issuing waivers to foreign manufacturers of Continuous Friction Measurement Equipment (CFME) that meet the requirements of FAA Advisory Circular (AC) 150/5320-12C, Measurement, Construction, and Maintenance of Skid-Resistant Airport Pavement Surfaces. This notice requests information from manufacturers of CFME meeting the technical requirements to determine whether a waiver to the Buy American Preferences should be issued.

FOR FURTHER INFORMATION CONTACT: Mr. Carlos N. Fields, Airport Improvement Program, APP 520, Room 619, FAA, 800 Independence Avenue SW., Washington, DC 20591, Telephone (202) 267-8826.

SUPPLEMENTARY INFORMATION: The Federal Aviation Administration (FAA) manages a federal grant program for airports called the Airport Improvement Program (AIP). AIP grant recipients must follow 49 U.S.C. § 50101, Buy American Preferences.

Under 49 U.S.C. 50101(b)(3), the Secretary of Transportation may waive the Buy American Preference requirement if the goods are not produced in a sufficient and reasonably available amount or are not of a satisfactory quality.

The purpose of this notice is to request FAA-approved manufacturers of CFME, both domestic and foreign, that meet the requirements of FAA Advisory Circular 150/5320-12C, Measurement, Construction, and Maintenance of Skid-Resistant Airport Pavement Surfaces to submit a qualifications statement for the system for which they have received FAA approval. The detailed instructions for submitting the qualifications statement, including forms, may be found on the FAA Web site at: https://www.faa.gov/airports/aip/buy_american/ at the tab entitled, Continuous Friction Measurement Equipment Request for Qualifications.

The FAA wants to determine if there is sufficient quantity of FAA-approved domestic manufacturers capable of meeting the FAA technical requirements. If the FAA cannot find that there are a sufficient number of USA manufacturers, it will issue a nationwide waiver to the FAA approved foreign manufacturers.

Technical Requirements: The CFME must have FAA approval indicating that the CFME meets the technical requirements listed in FAA Advisory Circular (AC) 150/5320-12C, Measurement, Construction, and Maintenance of Skid-Resistant Airport Pavement Surfaces. FAA approval is indicated by inclusion in Appendix 4 of the AC. After review, the FAA may issue a nationwide waiver to Buy American Preferences for foreign manufacturers or United States manufacturers that do not meet the Buy American Preference requirements. Waivers will not be issued for manufacturers that do not fully meet the technical requirements. This “nationwide waiver” allows CFME to be used on AIP projects without having to receive separate project waivers. Having a nationwide waiver allows projects to start quickly without having to wait for the Buy American analysis to be completed for every project, while still assuring the funds used for airport projects under the Act are being directed to U.S. manufacturers.

Items that have been granted a “nationwide waiver” can be found on the FAA Web site at: https://www.faa.gov/airports/aip/buy_american/ at the tab entitled, National Buy American Waivers Issued.

Issued in Washington, DC, November 1, 2013.
Frank J. San Martin,
Manager, Airports Financial Assistance Division.

[FR Doc. 2013-27949 Filed 11-20-13; 8:45 am]

BILLING CODE 4910-13-P